SOCIAL SECURITY ADMINISTRATION

[Docket No: SSA-2024-0037]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2024-0037] in your submitted response.

SSA submitted the information collections below to OMB for clearance. Your comments regarding these information collections would be most useful if OMB and SSA receive them 30 days from the date of this publication. To be sure we consider your comments, we must receive them no later than November 1, 2024. Individuals can obtain copies of these OMB clearance packages by writing to the OR.Reports.Clearance@ssa.gov.

Background

The Social Security Administration (SSA) is requesting clearance to collect data necessary to evaluate the Youth Transition Exploration Demonstration (YTED) under the Interventional Cooperative Agreement Program (ICAP). SSA awarded its second set of cooperative agreements for ICAP on December 22, 2022. ICAP allows SSA to partner with various non-federal groups and organizations to advance interventional research connected to the Supplemental Security Income (SSI) and Social Security Disability Insurance (SSDI) programs. SSA awarded Mathematica a cooperative agreement to lead the YTED, which will help youth with disabilities transition successfully into the adult labor force and competitive, integrated employment. In addition, Mathematica is partnering with the Pennsylvania Office of Vocational Rehabilitation (OVR) to recruit youth and deliver intervention services and the University of Maryland's Center for Transition and Career Innovation (UMD) to provide training and technical assistance to OVR.

YTED Project Description

YTED will provide SSA with empirical evidence on the impact of the intervention on youth in several outcome areas: (1) employment and earnings; (2) SSI and SSDI benefit receipt; and (3) other related outcomes, such as satisfaction and well-being. A rigorous evaluation of YTED is important to help SSA and other interested parties assess promising options to improve employment-related outcomes and decrease benefit receipts. Mathematica is directing YTED and evaluating it via a randomized controlled trial. OVR will recruit 700 youth into YTED over a two-year period. Potential enrollees include all residents in the city of Philadelphia and the surrounding four counties in Pennsylvania (Bucks, Chester, Delaware, and Montgomery) ages 16 to 24 who qualify for vocational rehabilitation (VR) services; have never signed an individualized plan for employment with OVR; and are capable of giving informed consent or assent. Once enrolled, youth assigned to the control group will remain eligible for standard VR services and receive information about how to apply to OVR. Youth assigned to the treatment group will open a case with OVR and receive enhanced Transition Exploration (TE) services. Treatment group members will receive services from a specially trained OVR counselor called a Vocational Rehabilitation Counselor-YTED (VRC-YTED) for up to 12 months. Key enhanced services provided by a VRC-YTED will include career goal development, referral to intensive training programs, referral to other employment-related resources, and intensive engagement and follow up. As part of the TE intervention, OVR will develop strong collaborative relationships with intensive training programs like Job Corps and Year Up to facilitate seamless referrals and cooperation. OVR will also provide counseling on SSI, SSDI, and other benefits with a goal of helping youth to access them temporarily while pursuing full-time work. The respondents are youth with disabilities who qualify and who are selected by SSA to enroll in YTED.

Correction Notice: SSA published this information collection as Transition Exploration Demonstration (TED), on June 29, 2024, at 89 FR 53472. We are changing the name of the information collection to Youth Transition Exploration Demonstration (YTED).

Modality of completion | Number of respondents | Frequency of response | Total number of respondents | Average burden per response (in minutes) | Total annual burden (hours) | Average theoretical hourly cost * | Total annual opportunity cost **
Informed consent form and release form | 700 | 1 | 700 | 10 | 117 | * $7.25 | ** $848
Baseline survey | 700 | 1 | 700 | 15 | 175 | * 7.25 | ** 1,269
12-month follow-up survey | 560 | 1 | 560 | 20 | 187 | * 7.25 | ** 1,356
Qualitative data collection with site staff | 18 | 2 | 36 | 68 | 41 | * 31.48 | ** 1,291
Qualitative data collection with treatment group members | 4 | 3 | 12 | 45 | 9 | * 7.25 | ** 65
Total | 1,982 |  | 2,008 |  | 529 |  | ** 4,829
* We based this figure on the average minimum wage, as reported by Pennsylvania's Current data at Department of Labor & Industry data (https://www.dli.pa.gov/Individuals/Labor-ManagementRelations/llc/Pages/Wage-FAQs.aspx).
** This figure does not represent actual costs that SSA is imposing on recipients of Social Security payments to complete this application; rather, these are theoretical opportunity costs for the additional time respondents will spend to complete the application. There is no actual charge to respondents to complete the application.

Dated: September 27, 2024.
Naomi Sipple,
Reports Clearance Officer, Social Security Administration.

[FR Doc. 2024-22719 Filed 10-1-24; 8:45 am]

BILLING CODE 4191-02-P